Title 3—

The President

Proclamation 8907 of November 20, 2012

National Child's Day, 2012

By the President of the United States of America

A Proclamation

All children deserve the chance to follow their passions, chase their dreams, and pursue their fullest measure of happiness. On National Child's Day, we celebrate the innumerable ways our sons and daughters have enriched our lives, and we rededicate ourselves to helping them achieve excellence in everything they do.

America's success in the 21st century depends on our ability to give our children the best education possible. By providing the critical foundation for academic achievement, parents, families, and community groups play an essential part in fulfilling that mission. To bolster their efforts, my Administration has partnered with States and communities across our country to build more pathways to opportunity for our students. We launched Race to the Top, a national competition to improve our schools that has helped encourage nearly every State to raise education standards. We have strengthened early childhood education to help prevent achievement gaps before they start. We have invested in math and science education, redoubled efforts to turn around struggling schools, and expanded financial aid to help make higher education something every family can afford. And moving forward, we will keep working to ensure all our children have the skills they need to achieve their highest ambitions.

In order to thrive in school and grow up strong, our children need a healthy start in life that includes nourishing meals and regular physical activity. Every day, parents and guardians are taking up that important task by making healthy choices for their kids. Schools are finding innovative ways to provide nutritious food for their students, and communities are coming together to help young people lead healthier lives right from the start. As these groups fulfill their responsibilities to our children, my Administration is striving to fulfill ours through efforts like First Lady Michelle Obama's Let's Move! initiative, which aims to solve the problem of childhood obesity within a generation, and the Affordable Care Act, which has expanded preventive services for children and ensured health coverage for millions of young adults.

High-quality education and health care are essential to giving our children the future they deserve. As we take this opportunity to honor our sons and daughters, let us reaffirm that no matter what challenges lie ahead of us, providing the best for our children will always be our first priority.

NOW, THEREFORE, I, BARACK OBAMA, President of the United States of America, by virtue of the authority vested in me by the Constitution and the laws of the United States, do hereby proclaim November 20, 2012, as National Child's Day. I call upon all citizens to observe this day with appropriate activities, programs, and ceremonies, and to rededicate ourselves to creating the bright future we want for our Nation's children.

IN WITNESS WHEREOF, I have hereunto set my hand this twentieth day of November, in the year of our Lord two thousand twelve, and of the Independence of the United States of America the two hundred and thirty-seventh.

[FR Doc. 2012-28807

Filed 11-26-12; 8:45 am]

Billing code 3295-F3